FEDERAL COMMUNICATIONS COMMISSION

47 CFR Part 69

[WC Docket No. 05-25 and RM-10593; DA 15-1473]

Wireline Competition Bureau Extends Comment and Reply Comment Deadlines in Business Data Services (Special Access) Rulemaking Proceeding

AGENCY: Federal Communications Commission.

ACTION: Proposed rule.

SUMMARY: The Wireline Competition Bureau grants in part a request seeking an extension to the comment and reply comment deadlines in the business data services (special access proceeding, Special Access FNPRM.

DATES: Comments may be filed on or before January 22, 2016, and reply comments may be filed by February 19, 2016.

ADDRESSES: Federal Communications Commission, 445 12th Street, Washington, DC 20554.

FOR FURTHER INFORMATION CONTACT: Joseph Price, Wireline Competition Bureau, Pricing Policy Division, 202-418-1540 or at Joseph.Price@fcc.gov.

SUPPLEMENTARY INFORMATION: This is a summary of the Commission's order WC Docket 05-25, RM-10593, DA 15-1473, released December 21, 2015. This document does not contain information collection(s) subject to the Paperwork Act of 1995 (PRA), Public Law 104-93. In addition, therefore, it does not contain any new or modified “information collection burdens[s] for small business concerns with fewer than 25 employees,” pursuant to the Small Business Paperwork Relief Act of 2002. The full text of this document may be downloaded at the following Internet address: http://transition.fcc.gov/Daily_Releases/Daily_Business/2015/db1221/DA-15-1473A1.pdf. To request alternative formats for persons with disabilities (e.g., accessible format documents, sign language, interpreters, CARTS, etc.), send an email to fcc504@fcc.gov or call the Commission's Consumer and Governmental Affairs Bureau at (202) 418-0530 or (202) 418-0432 (TTY).

Synopsis

In Section IV.B of the Further Notice of Proposed Rule Making (FNPRM) accompanying the Data Collection Order, adopted on December 11, 2012, the Commission sought comment on possible changes to its rules for the business data services. The Commission set the comment deadlines on this portion of the Special Access FNPRM, 78 FR 2600, several months beyond the document's release date to allow interested parties opportunity to review the data and information collected before filing comments. The Bureau has extended these deadlines, upon request and in consideration of oppositions filed in response to the request for extensions of time, to allow interested parties adequate time to access and review the data and information collected. Accordingly, the deadline for filing comments is extended to January 22, 2016, and the deadline for reply comments is extended to February 19, 2016.

Federal Communications Commission.
Pamela Arluk,
Chief, Pricing Policy Division.

[FR Doc. 2016-01082 Filed 1-19-16; 8:45 am]

BILLING CODE 6712-01-P